CONSUMER PRODUCT SAFETY COMMISSION

Proposed Extension of Approval of Information Collection; Comment Request—Testing and Recordkeeping Requirements Under the Standard for the Flammability (Open Flame) of Mattresses

AGENCY: Consumer Product Safety Commission.

ACTION: Notice.

SUMMARY: As required by the Paperwork Reduction Act of 1995 (44 U.S.C. chapter 35), the Consumer Product Safety Commission (Commission) requests comments on a proposed three year extension of approval of information collection requirements in the Standard for the Flammability—Open Flame—of Mattresses Set (Open Flame standard), 16 CFR part 1633. The Commission has a separate flammability standard that addresses cigarette ignition of mattresses, 16 CFR part 1632. The Open Flame standard is intended to reduce unreasonable risks of burn injuries and deaths from fires associated with mattresses, particularly those initially ignited by open flame sources such as lighters, candles, and matches. The Open Flame standard prescribes a test to minimize or delay flashover when a mattress is ignited. The standard requires manufacturers to test specimens of each of their mattress prototypes before mattresses based on that prototype may be introduced into commerce. The Office of Management and Budget (OMB) previously approved the collection of information under control number 3041-0133. OMB's most recent extension of approval will expire on June 30, 2009. The Commission will consider all comments received in response to this notice before requesting an extension of approval of this collection of information from OMB.

DATES: Written comments must be received by the Office of the Secretary not later than June 15, 2009.

ADDRESSES: Written comments should be captioned “Collection of Information—Mattress Sets (Open Flame) Standard” and e-mailed to cpsc-os@cpsc.gov. Comments may also be sent by facsimile to (301) 504-0127, or by mail to the Office of the Secretary, Consumer Product Safety Commission, 4330 East West Highway, Bethesda, Maryland 20814.

FOR FURTHER INFORMATION CONTACT: For information about the proposed renewal of this collection of information, or to obtain a copy of the pertinent regulations, call or write Linda L. Glatz, Division of Policy and Planning, Office of Information Technology and Technology Services, Consumer Product Safety Commission, 4330 East West Highway, Bethesda, Maryland 20814; (301) 504-7671, or by e-mail to lglatz@cpsc.gov.

SUPPLEMENTARY INFORMATION:

A. Estimated Burden

The Commission staff estimates that at this time there are 571 firms producing conventional mattresses and 100 firms producing non-conventional mattresses for a total of 671 firms affected by this standard. The staff further estimates that each firm will spend 4 hours and 44 minutes hours for testing and recordkeeping annually per prototype. The staff estimates that there will be an average of 20 different prototypes tested by each firm for a total of 94.7 hours per firm (4.73 hours × 20 prototypes). The annual time cost for testing and recordkeeping for all firms is estimated to be 63,521 hours (94.7 hours × 671 firms). The annualized cost is estimated to be $1.7 million based on an hourly wage for the recordkeeping of approximately $27.14 (Bureau of Labor Statistics: All workers, goods-producing industries, sales and office, September 2008) × 63,521 hours.

The Commission will expend approximately fifty months of professional staff time annually for reviewing testing, record review and follow-up on consumer complaints and reports of injury. The annual cost to the Federal government of the collection of information on the Open Flame standard is estimated to be $830,380.

B. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: April 10, 2009.
Todd A. Stevenson,
Secretary, Consumer Product Safety Commission.

[FR Doc. E9-8720 Filed 4-15-09; 8:45 am]

BILLING CODE 6355-01-P